DEPARTMENT OF ENERGY

Federal Energy Regulatory Commission

Combined Notice of Filings #2

Take notice that the Commission received the following electric rate filings:

Docket Numbers: ER23-2236-000.

Applicants: Chisholm Trail Solar Energy LLC.

Description: Baseline eTariff Filing: Application for Market-Based Rate Authorization to be effective 8/26/2023.

Filed Date: 6/26/23.

Accession Number: 20230626-5043.

Comment Date: 5 p.m. ET 7/17/23.

Docket Numbers: ER23-2237-000.

Applicants: Flat Ridge 4 Wind Holdings LLC.

Description: Baseline eTariff Filing: Application for Market-Based Rate Authorization to be effective 8/26/2023.

Filed Date: 6/26/23.

Accession Number: 20230626-5045.

Comment Date: 5 p.m. ET 7/17/23.

Docket Numbers: ER23-2238-000.

Applicants: Flat Ridge 4 Wind, LLC.

Description: Baseline eTariff Filing: Application for Market-Based Rate Authorization to be effective 8/26/2023.

Filed Date: 6/26/23.

Accession Number: 20230626-5046.

Comment Date: 5 p.m. ET 7/17/23.

Docket Numbers: ER23-2239-000.

Applicants: HQC Solar Holdings 1, LLC.

Description: Petition for Limited Waiver of HQC Solar Holdings 1, LLC.

Filed Date: 6/20/23.

Accession Number: 20230620-5304.

Comment Date: 5 p.m. ET 7/11/23.

Docket Numbers: ER23-2240-000.

Applicants: Flat Ridge 5 Wind Energy Holdings LLC.

Description: Baseline eTariff Filing: Application for Market-Based Rate Authorization to be effective 8/26/2023.

Filed Date: 6/26/23.

Accession Number: 20230626-5048.

Comment Date: 5 p.m. ET 7/17/23.

Docket Numbers: ER23-2241-000.

Applicants: Flat Ridge 5 Wind Energy LLC.

Description: Baseline eTariff Filing: Application for Market-Based Rate Authorization to be effective 8/26/2023.

Filed Date: 6/26/23.

Accession Number: 20230626-5049.

Comment Date: 5 p.m. ET 7/17/23.

Docket Numbers: ER23-2242-000.

Applicants: Lazbuddie Wind Energy Holdings LLC.

Description: Baseline eTariff Filing: Application for Market-Based Rate Authorization to be effective 8/26/2023.

Filed Date: 6/26/23.

Accession Number: 20230626-5050.

Comment Date: 5 p.m. ET 7/17/23.

Docket Numbers: ER23-2243-000.

Applicants: Lazbuddie Wind Energy LLC.

Description: Baseline eTariff Filing: Application for Market-Based Rate Authorization to be effective 8/26/2023.

Filed Date: 6/26/23.

Accession Number: 20230626-5052.

Comment Date: 5 p.m. ET 7/17/23.

Docket Numbers: ER23-2244-000.

Applicants: Pixley Solar Energy Holdings LLC.

Description: Baseline eTariff Filing: Application for Market-Based Rate Authorization to be effective 8/26/2023.

Filed Date: 6/26/23.

Accession Number: 20230626-5054.

Comment Date: 5 p.m. ET 7/17/23.

Docket Numbers: ER23-2245-000.

Applicants: Pixley Solar Energy LLC.

Description: Baseline eTariff Filing: Application for Market-Based Rate Authorization to be effective 8/26/2023.

Filed Date: 6/26/23.

Accession Number: 20230626-5056.

Comment Date: 5 p.m. ET 7/17/23.

Docket Numbers: ER23-2246-000.

Applicants: Public Service Company of Colorado.

Description: § 205(d) Rate Filing: 2023-06-26-TSGT-Const-Finney to Lamar 345 kV-735—0.0.0 to be effective 5/16/2023.

Filed Date: 6/26/23.

Accession Number: 20230626-5062.

Comment Date: 5 p.m. ET 7/17/23.

Docket Numbers: ER23-2247-000.

Applicants: Energy Prepay I, LLC.

Description: Tariff Amendment: Cancellation entire tariff to be effective 6/27/2023.

Filed Date: 6/26/23.

Accession Number: 20230626-5069.

Comment Date: 5 p.m. ET 7/17/23.

Docket Numbers: ER23-2248-000.

Applicants: MS Solar Solutions Corp.

Description: Tariff Amendment: Cancellation entire tariff to be effective 6/27/2023.

Filed Date: 6/26/23.

Accession Number: 20230626-5073.

Comment Date: 5 p.m. ET 7/17/23.

Docket Numbers: ER23-2249-000.

Applicants: Alabama Power Company, Georgia Power Company, Mississippi Power Company.

Description: § 205(d) Rate Filing: Alabama Power Company submits tariff filing per 35.13(a)(2)(iii: Lexington Solar + BESS LGIA Filing to be effective 6/15/2023.

Filed Date: 6/26/23.

Accession Number: 20230626-5080.

Comment Date: 5 p.m. ET 7/17/23.

Docket Numbers: ER23-2250-000.

Applicants: Alabama Power Company, Georgia Power Company, Mississippi Power Company.

Description: § 205(d) Rate Filing: Alabama Power Company submits tariff filing per 35.13(a)(2)(iii: Wrightsville Solar + BESS LGIA Filing to be effective 6/14/2023.

Filed Date: 6/26/23.

Accession Number: 20230626-5081.

Comment Date: 5 p.m. ET 7/17/23.

Docket Numbers: ER23-2251-000.

Applicants: Central Hudson Gas & Electric Corporation.

Description: § 205(d) Rate Filing: Revision to FERC Rate Schedule 202 to be effective 6/13/2023.

Filed Date: 6/26/23.

Accession Number: 20230626-5087.

Comment Date: 5 p.m. ET 7/17/23.

Docket Numbers: ER23-2252-000.

Applicants: Southwest Power Pool, Inc.

Description: § 205(d) Rate Filing: 1266R14 Kansas Municipal Energy Agency NITSA and NOA to be effective 9/1/2023.

Filed Date: 6/26/23.

Accession Number: 20230626-5092.

Comment Date: 5 p.m. ET 7/17/23.

Docket Numbers: ER23-2253-000.

Applicants: Southern California Edison Company.

Description: § 205(d) Rate Filing: IA, Ten West Link Transmission (TOT784/RS FERC NO. 532) to be effective 6/27/2023.

Filed Date: 6/26/23.

Accession Number: 20230626-5093.

Comment Date: 5 p.m. ET 7/17/23.

Docket Numbers: ER23-2254-000.

Applicants: Southwest Power Pool, Inc.

Description: § 205(d) Rate Filing: 2562R13 Kansas Municipal Energy Agency NITSA NOA to be effective 9/1/2023.

Filed Date: 6/26/23.

Accession Number: 20230626-5095.

Comment Date: 5 p.m. ET 7/17/23.

Docket Numbers: ER23-2255-000.

Applicants: Southwest Power Pool, Inc.

Description: § 205(d) Rate Filing: 3599R2 Missouri Electric Commission NITSA NOA to be effective 9/1/2023.

Filed Date: 6/26/23.

Accession Number: 20230626-5101.

Comment Date: 5 p.m. ET 7/17/23.

Docket Numbers: ER23-2256-000.

Applicants: AEP Indiana Michigan Transmission Company, Inc., PJM Interconnection, L.L.C.

Description: § 205(d) Rate Filing: AEP Indiana Michigan Transmission Company, Inc. submits tariff filing per 35.13(a)(2)(iii: AEP and METC submit Second Amended and Restated IA, SA No. 4251 to be effective 6/1/2023.

Filed Date: 6/26/23.

Accession Number: 20230626-5107.

Comment Date: 5 p.m. ET 7/17/23.

Docket Numbers: ER23-2257-000.

Applicants: PacifiCorp.

Description: § 205(d) Rate Filing: Certificate of Concurrence to Boardman to Hemingway Project Construction Funding to be effective 6/7/2023.

Filed Date: 6/26/23.

Accession Number: 20230626-5108.

Comment Date: 5 p.m. ET 7/17/23.

Docket Numbers: ER23-2258-000.

Applicants: Southern California Edison Company.

Description: Tariff Amendment: Cancel E&P LA, Ten West Link Transmission (TOT784/SA213) to be effective 6/27/2023.

Filed Date: 6/26/23.

Accession Number: 20230626-5126.

Comment Date: 5 p.m. ET 7/17/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 26, 2023.
Debbie-Anne A. Reese,
Deputy Secretary.

[FR Doc. 2023-13976 Filed 6-29-23; 8:45 am]

BILLING CODE 6717-01-P